DEPARTMENT OF COMMERCE

National Oceanic and Atmospheric Administration

[I.D. 030106D]

New England Fishery Management Council; Public Meetings

AGENCY: National Marine Fisheries Service (NMFS), National Oceanic and Atmospheric Administration (NOAA), Commerce.

ACTION: Notice of public meetings.

SUMMARY: The New England Fishery Management Council (Council) is scheduling a public meetings of its Scallop Advisory Panel and General Category Scallop Advisory Panels in March, 2006 to consider actions affecting New England fisheries in the exclusive economic zone (EEZ). Recommendations from these groups will be brought to the full Council for formal consideration and action, if appropriate.

DATES: These meetings will be held on Tuesday, March 21, 2006, at 9:30 a.m. and Wednesday, March 22, 2006, at 9:30 a.m.

ADDRESSES: These meetings will be held at the Holiday Inn, 225 McClellan Highway, Boston, MA 02128; telephone: (617) 569-5250; fax: (617) 561-0971.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The panel's schedule and agenda for the meetings are as follows:

1. Tuesday, March 21, 2006; Scallop Advisory Panel meeting.

2. Wednesday, March 22, 2006; General Category Scallop Advisory Panel meeting.

The advisory panels will review public comments received during scoping for Amendment 11 to the Sea Scallop Fishery Management Plan (FMP). The advisors will also review the scoping document for Amendment 11 and make recommendations to the Scallop Oversight Committee related to the scope of the action. The advisors will discuss potential alternatives for consideration in Amendment 11 including, but not limited to, identifying an appropriate range of resource allocation options involving the limited access and general category scallop fisheries and potential qualification criteria for a limited entry program for the general category fishery. The advisors may also consider other topics as directed by the Scallop Oversight Committee.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: March 2, 2006.
Tracey L. Thompson,
Acting Director, Office of Sustainable Fisheries, National Marine Fisheries Service.

[FR Doc. E6-3154 Filed 3-6-06; 8:45 am]

BILLING CODE 3510-22-S